DEPARTMENT OF JUSTICE

Notice of Lodging of Proposed Consent Decree Under the System Unit Resource Protection Act

On December 6, 2024, the Department of Justice lodged a proposed consent decree with the United States District Court for the District of Colorado in the lawsuit entitled United States v. Water Supply and Storage Company, in personam, and Grand River Ditch, in rem, Civil Action No. 1:23-cv-00533-CNS-TPO.

On February 27, 2023, the United States filed a lawsuit alleging that Defendants, Water Supply and Storage Company (“WSSC”), in personam, and Grand River Ditch, in rem, are liable for damages and response costs under the System Unit Resource Protection Act and that WSSC is liable under a March 21, 1907 stipulation between WSSC and the U.S. Forest Service regarding operation and maintenance of the Grand River Ditch. The verified complaint alleges that on or around June 17, 2017, a closed culvert/pipe system, which forms part of the Grand River Ditch's infrastructure, ruptured, causing substantial water to flow into the drainage below in Rocky Mountain National Park and resulting in significant damage to natural resources.

The consent decree requires Defendants to pay the United States $2,680,000 in response costs and damages, to enter into an operations and maintenance agreement governing management of the Grand River Ditch, and to hire a third-party independent consultant to develop a comprehensive operations and maintenance plan for the Grand River Ditch.

The publication of this notice opens a period for public comment on the consent decree. Comments should be addressed to the Assistant Attorney General, Environment and Natural Resources Division, and should refer to United States v. Water Supply and Storage Company, in personam, and Grand River Ditch, in rem, D.J. Ref. No. 90-5-1-1-08154/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the consent decree may be examined and downloaded at this Justice Department website: https://www.justice.gov/enrd/consent-decrees. If you require assistance accessing the consent decree, you may request assistance by email or by mail to the addresses provided above for submitting comments.

Jason A. Dunn,
Assistant Section Chief, Environmental Enforcement Section, Environment and Natural Resources Division.

[FR Doc. 2024-29126 Filed 12-10-24; 8:45 am]

BILLING CODE 4410-15-P